Directive of January 31, 2000

Resolution Regarding Use of Range Facilities on Vieques, Puerto Rico (Community Assistance)

Directive to the Secretary of Defense [and] Director, Office of Management and Budget

By separate directive I have addressed the resumption of Navy and Marine Corps training on the island of Vieques.

1. Provided that training opportunity has resumed and is continuously available on Vieques, then within 90 days of this directive, I direct the Office of Management and Budget (OMB) to request authority and funding (which with funding for projects described in paragraph 5(e) of the previously referenced directive will total $40 million) from the Congress for the following projects:

(a) To support the construction of a new commercial ferry pier and terminal by the Army Corps of Engineers.

(b) To establish an artificial reef construction and fish aggregation program to create substantial new commercial fishing areas for Vieques fisherman. Until such time as these new fishing grounds are operational, this legislation will authorize direct payments of an amount (to be determined by the National Marine Fisheries Services) to be paid to registered Vieques commercial fishermen for each day they are unable to use existing waters because the Navy is training.

(c) To support expanding or improving the major cross-island roadways and bridges on Vieques.

(d) To establish an apprenticeship/training program for young people on Vieques to facilitate participation in small-scale civic construction projects.

(e) To establish a program with the Government of Puerto Rico to preserve the Puerto Mosquito Vieques bioluminescent bay and to commit Federal resources to its preservation.

(f) To establish a professional economic development office for Vieques for the purpose of promoting Vieques and attracting jobs to the island.

2. The Director of OMB shall publish this directive in the Federal Register.

wj

THE WHITE HOUSE,

Washington, January 31, 2000.

[FR Doc. 00-2751

Filed 2-3-00; 11:22 am]

Billing code 3110-01-M